DEPARTMENT OF HEALTH AND HUMAN SERVICES

Administration for Children and Families

Submission for OMB Review; Comment Request

Title: Information Comparison with Insurance Data

OMB No.: 0970-0342.

Description: The Insurance Match program is a cooperative effort between state child support agencies, insurers, and the federal Office of Child Support Enforcement (OCSE). Using an efficient, secure, and cost effective automated matching process, OCSE works with participating insurers to help state child support agencies collect past-due support for families by comparing information maintained in the OCSE Debtor File pertaining to delinquent noncustodial parents to information pertaining to individuals eligible to receive a payment from an insurance claim, settlement, award, or payment. State child support agency and insurer participation in the Insurance Match program is voluntary.

The information collection activities associated with the Insurance Match program are authorized by: 42 U.S.C. 652(l) (to be redesignated (m)) which authorizes the Secretary of the U.S. Department of Health and Human Services through the Federal Parent Locator Service (FPLS), to conduct comparisons of information concerning individuals owing past-due child support with information maintained by insurers (or their agents) concerning insurance claims, settlements, awards and payments.

Respondents: Insurers or their agents, state agencies administering workers' compensation programs, and the Insurance Services Office (ISO).

Annual Burden Estimates
Instrument | Number of respondents | Number of responses per respondent | Average burden hours per response | Total burden hours
Insurance Match File | 28 | 12 | 0.5 | 168

Estimated Total Annual Burden Hours: 168.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV, Attn: Desk Officer for the Administration for Children and Families.

Robert Sargis,
Reports Clearance Officer.

[FR Doc. 2014-21318 Filed 9-5-14; 8:45 am]

BILLING CODE 4184-01-P